DEPARTMENT OF HOMELAND SECURITY

Transportation Security Administration

New Agency Information Collection Activity Under OMB Review: Application To Participate in the Screening Partnership Program (SPP)

AGENCY: Transportation Security Administration, DHS.

ACTION: 30-day Notice.

SUMMARY: This notice announces that the Transportation Security Administration (TSA) has forwarded the new Information Collection Request (ICR) abstracted below to the Office of Management and Budget (OMB) for review and approval under the Paperwork Reduction Act (PRA). The ICR describes the nature of the information collection and its expected burden. TSA published a Federal Register notice, with a 60-day comment period soliciting comments, of the following collection of information on July 2, 2014, 79 FR 37763. The collection involves the TSA's Screening Partnership Program (SPP) (49 U.S.C. 44920 (ATSA § 108)), which enables commercial airports to apply for a qualified private screening company to provide passenger and baggage security screening services. An airport submits the SPP application to have employees of qualified private companies carry out the screening of passengers and property at the airport under a contract entered into with TSA. The application process is the initial notification to TSA Headquarters of an airport's desire to opt-out of the federal screening provided by TSA employees.

DATES: Send your comments by February 27, 2015. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

The submission of the SPP application is the first step in an airport's request for private screening; it represents the initial notification to TSA of an airport's desire to opt-out of the federal screening provided by TSA employees. TSA currently has a screening presence at approximately 450 airports, of which 19 airports are actively participating in SPP.

The annual burden for the information collection related to SPP is estimated to be one half (0.50) hour. While TSA estimates that only two airports will respond annually, it is presumed that ten or more airports could respond. The agency estimates that each respondent airport will spend approximately one-quarter (.25) hour to complete the application for a total burden of one-half (0.50) hour. TSA does not require the airports to maintain records of the application submission; however, if the airport choses to do so the burden associated with the action is anticipated to be de minimis.

Title: Screening Partnership Program Application.

Type of Request: New collection.

OMB Control Number: Not yet assigned.

Form(s): TSA Form 424 Screening Partnership Program Application.

Affected Public: Airport operators.

Abstract: TSA's Screening Partnership Program (SPP) (49 U.S.C. 44920 (ATSA § 108)) enables commercial airports to apply for a private screening company to provide passenger and baggage security screening services. An airport submits the SPP application to have employees of qualified private companies carry out the screening of passengers and property at the airport under a contract entered into with TSA. The application process is the initial notification to TSA Headquarters of an airport's desire to opt-out of the federal screening provided by TSA employees.

Number of Respondents: 2.

Estimated Annual Burden Hours: An estimated 0.50 hours annually.

Dated: January 22, 2015.
Christina A. Walsh,
TSA Paperwork Reduction Act Officer, Office of Information Technology.

[FR Doc. 2015-01513 Filed 1-27-15; 8:45 am]

BILLING CODE 9110-05-P